DEPARTMENT OF HOMELAND SECURITY

U.S. Customs and Border Protection

19 CFR Chapter I

Termination of Arrival Restrictions Applicable to Flights Carrying Persons Who Have Recently Traveled From or Were Otherwise Present Within Rwanda

AGENCY: U.S. Customs and Border Protection, Department of Homeland Security.

ACTION: Announcement of termination of arrival restrictions.

SUMMARY: This document announces the decision of the Secretary of Homeland Security to terminate arrival restrictions applicable to flights to the United States carrying persons who have recently traveled from, or were otherwise present within, Rwanda. These restrictions directed such flights to arrive at one of the U.S. airports where the U.S. government had focused public health resources to implement enhanced public health measures.

DATES: The arrival restrictions applicable to flights to the United States carrying persons who have recently traveled from, or were otherwise present within, Rwanda are terminated for flights departing after 11:59 p.m. Eastern Standard Time on December 4, 2024.

FOR FURTHER INFORMATION CONTACT: Stephanie Watson, Office of Field Operations, U.S. Customs and Border Protection at 202-255-7018.

SUPPLEMENTARY INFORMATION:

Background

On October 15, 2024, the Secretary of Homeland Security announced arrival restrictions applicable to flights to the United States carrying persons who have recently traveled from, or were otherwise present within, Rwanda due to an outbreak of Marburg Virus Disease (MVD) in Rwanda. (89 FR 83620). These restrictions directed such flights to arrive at one of the U.S. airports where the U.S. government focused public health resources to implement enhanced public health measures. For purposes of that document, a person had recently traveled from Rwanda if that person had departed from, or was otherwise present within, Rwanda within 21 days of the date of the person's entry or attempted entry into the United States. Also, for purposes of that document, crew and flights carrying only cargo (i.e., no passengers or non-crew) were excluded from those measures.

The Secretary has decided to terminate the above arrival restrictions. The last unlinked case of MVD was isolated in Rwanda on October 24, 2024, and 42 days (two 21-day incubation periods) will have passed by the time the termination takes effect. Additionally, since October 30, 2024, there have been no new confirmed MVD cases reported in Rwanda, no new chains of transmission, and no new districts reporting local case transmissions. Therefore, arrival restrictions are no longer required for flights to the United States carrying persons who have recently traveled from, or were otherwise present within, Rwanda.

Notice of Termination of Arrival Restrictions Applicable to All Flights Carrying Persons Who Have Recently Traveled From or Were Otherwise Present Within Rwanda

Pursuant to 6 U.S.C. 112(a), 19 U.S.C. 1433(c), and 19 CFR 122.32, for flights departing after 11:59 p.m. Eastern Standard Time on December 4, 2024, I hereby terminate the arrival restrictions applicable to flights to the United States carrying persons who have recently traveled from, or were otherwise present within, Rwanda announced in the Arrival Restrictions document published at 89 FR 83620 (Oct. 17, 2024).

Alejandro N. Mayorkas,
Secretary, U.S. Department of Homeland Security.

[FR Doc. 2024-28582 Filed 12-4-24; 4:15 pm]

BILLING CODE 9111-14-P